DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: May 9, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Arkansas

Installation Name: Jonesboro USARC.

LRA Name: ARC Jonesboro Local Redevelopment Authority.

Point of Contact: Tony E. Thomas, Project Administrator, City of Jonesboro,

Address: City Hall, 515 West Washington, P.O. Box 1845, Jonesboro, AR 72403-1845.

Phone: (870) 932-1052.

Installation Name: Rufus N. Garrett Jr. USARC.

LRA Name: City of El Dorado Local Redevelopment Authority.

Point of Contact: Toby Anderson, Director, El Dorado Housing Authority.

Address: P.O. Box 486, El Dorado, AR 71731.

Phone: (870) 863-4070.

Connecticut

Installation Name: Paul J. Sutcovoy USARC.

LRA Name: Waterbury Development Corporation.

Point of Contact: Michael L. O'Connor, CEO, Waterbury Development Corporation.

Address: 24 Leavenworth Street, Waterbury, CT 06702.

Phone: (203) 346-2607, ext. 101.

Iowa

Installation Name: Cedar Rapids AFRC.

LRA Name: Cedar Rapids Local Redevelopment Authority.

Point of Contact: Lyle K. Hanson, Special Projects Manager, Department of Community Development, City of Cedar Rapids.

Address: 50 Second Avenue Bridge, 6th Floor, City Hall, Cedar Rapids, IA 52401-1256.

Phone: (319) 286-5070.

Louisiana

Installation Name: Bossier City USARC.

LRA Name: Bossier City Local Redevelopment Authority.

Point of Contact: Sam Marsiglia, Executive Director, Bossier City-Parish Metropolitan Planning Commission.

Address: 620 Benton Road, Bossier City, LA 71111.

Phone: (318) 741-8824.

Massachusetts

Installation Name: Arthur MacArthur USARC.

LRA Name: Springfield Redevelopment Authority.

Point of Contact: David B. Panagore, Chief Development Officer, Finance Control Board, City of Springfield.

Address: 70 Tapley Street.

Phone: (413) 787-6565.

Installation Name: Westover AFRC.

LRA Name: Westover Armed Forces Reserve Center Local Redevelopment Authority.

Point of Contact: Kate Brown, Director of Planning & Development, City of Chicopee.

Address: Chicopee City Hall Annex, 274 Front Street, 4th Floor, Chicopee, MA 01013.

Phone: (413) 594-1516.

New York

Installation Name: BG Theodore Roosevelt, Jr., USARC.

LRA Name: BG Theodore Roosevelt, Jr., USARC Local Redevelopment Authority.

Point of Contact: Daniel J. Gulizio, Deputy Commissioner of Comprehensive Planning, Nassau County Planning Commission.

Address: 400 County Seat Drive, Mineola, NY 11501.

Phone: (516) 571-0461.

West Virginia

Installation Name: 1LT Harry B. Colborn USARC.

LRA Name: Fairmont Planning Commission.

Point of Contact: Jay Rogers, Director of Planning and Development, City of Fairmont.

Address: 200 Jackson Street, P.O. Box 1428, Fairmont, WV 26555-1428.

Phone: (304) 366-6211, ext. 308.

Dated: May 4, 2006.
L.M. Bynum,
OSD Federal Register Liaison Officer, Department of Defense.

[FR Doc. 06-4377 Filed 5-10-05; 8:45 am]

BILLING CODE 5001-06-M